DEPARTMENT OF ENERGY

Federal Energy Regulatory Commission

Combined Notice of Filings #1

Take notice that the Commission received the following electric corporate filings:

Docket Numbers: EC17-141-000.

Applicants: Tucson Electric Power Company.

Description: Application under FPA Section 203 of Tucson Electric Power Company.

Filed Date: 7/25/17.

Accession Number: 20170725-5107.

Comments Due: 5 p.m. ET 8/15/17.

Take notice that the Commission received the following electric rate filings:

Docket Numbers: ER10-2759-006; ER10-2631-006; ER10-2732-012; ER10-2733-012; ER10-2734-012; ER10-2736-012; ER10-2737-012; ER10-2741-012; ER10-2749-012; ER10-2752-012; ER12-2492-008; ER12-2493-008; ER12-2494-008; ER12-2495-008; ER12-2496-008; ER13-815-004; ER14-264-003; ER16-2455-002; ER16-2456-002; ER16-2457-002; ER16-2458-002; ER16-2459-002.

Applicants: Bridgeport Energy LLC, Emera Energy Services, Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 14 LLC, Emera Energy Services Subsidiary No. 15 LLC, Emera Maine, Rumford Power Inc., Tiverton Power LLC.

Description: Supplement to December 21, 2016 Triennial Update for the Northeast Region of Bridgeport Energy LLC, et al.

Filed Date: 7/25/17.

Accession Number: 20170725-5114.

Comments Due: 5 p.m. ET 8/15/17.

Docket Numbers: ER17-1504-001.

Applicants: Midcontinent Independent System Operator, Inc., WPPI Energy.

Description: Compliance filing: 2017-07-26_Compliance filing to include depreciation rates for WPPI Attachment O to be effective 7/1/2017.

Filed Date: 7/26/17.

Accession Number: 20170726-5040.

Comments Due: 5 p.m. ET 8/16/17.

Docket Numbers: ER17-2145-000.

Applicants: PJM Interconnection, L.L.C.

Description: § 205(d) Rate Filing: Interconnection Service Agreement No. 2150; Queue No. AA2-076 to be effective 6/29/2017.

Filed Date: 7/26/17.

Accession Number: 20170726-5015.

Comments Due: 5 p.m. ET 8/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2017.
Nathaniel J. Davis, Sr.,
Deputy Secretary.

[FR Doc. 2017-16220 Filed 8-1-17; 8:45 am]

BILLING CODE 6717-01-P